DEPARTMENT OF THE INTERIOR

Fish and Wildlife Service

[FWS-R4-R-2011-N171; 40136-1265-0000-S3]

Cabo Rojo National Wildlife Refuge, PR; Final Comprehensive Conservation Plan and Finding of No Significant Impact for Environmental Assessment

AGENCY: Fish and Wildlife Service, Interior.

ACTION: Notice of availability.

SUMMARY: We, the Fish and Wildlife Service (Service), announce the availability of our final comprehensive conservation plan (CCP) and finding of no significant impact (FONSI) for the environmental assessment for Cabo Rojo National Wildlife Refuge (NWR) in Boquerón, Puerto Rico. In the final CCP, we describe how we will manage this refuge for the next 15 years.

ADDRESSES: You may obtain a copy of the CCP by writing to: Mr. Oscar Díaz, P.O. Box 510, Boquerón, PR 00622. Alternatively, you may download the document from our Internet Site: http://southeast.fws.gov/planning/ under “Final Documents.”

FOR FURTHER INFORMATION CONTACT: Mr. Oscar Díaz, at 787/851-7258 (telephone).

SUPPLEMENTARY INFORMATION:

Introduction

With this notice, we finalize the CCP process for the refuge. We started this process through a Federal Register notice on March 12, 2007 (72 FR 11047).

We announce our decision and the availability of the final CCP and FONSI for Cabo Rojo NWR in accordance with the National Environmental Policy Act (NEPA) (40 CFR 1506.6(b)) requirements. We completed a thorough analysis of impacts on the human environment, which we included in the draft comprehensive conservation plan and environmental assessment (Draft CCP/EA).

Compatibility determinations for access to sea fishing and fishermen facility; research, investigations, surveys, and monitoring; camping (associated with environmental education and interpretation, and conservation projects); commercial harvesting of sea salt; wildlife observation, wildlife photography, environmental education, and interpretation; bicycling, hiking, walking, and jogging; and haying are available in the CCP.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Comments

We made copies of the Draft CCP/EA available for a 30-day public review and comment period via a Federal Register notice on May 2, 2011 (76 FR 24511). Several comments were received.

Selected Alternative

We developed three alternatives for managing the refuge. After considering the comments we received and based on the professional judgment of the planning team, we selected Alternative C for implementation. We will place emphasis on improving habitat for wildlife. We will actively manage endangered plant populations, including Aristida chaseae. Activities to be expanded or introduced under this alternative will include: (1) Managing endangered plant populations and reducing the occurrence of exotic species; (2) exploring opportunities to control and manage water levels in the saltwater lagoons; (3) establishing and managing a new and larger nursery to increase reforestation of native tree species in upland areas; (4) restoring additional freshwater and saltwater ponds to increase avian habitat; (5) expanding the use of volunteers to increase habitat restoration activity; and (6) proactively expanding research collaboration with universities.

We will also provide greater support to our visitor services program, with emphasis on the following: (1) Developing a curriculum-based environmental education program; (2) expanding the role of our friends group, to include staff and interpretation services at the new visitor services center; (3) opening the new headquarters building in 2012; (4) reviewing and updating our brochures and Web site, including offering a Spanish version of the Web site; (5) updating our current kiosks and building new kiosks along the trail system; (6) expanding the volunteer program to also provide assistance with public use activities; (7) seeking and developing new partnerships, particularly with regard to trail maintenance; and (8) adding additional signage to clarify refuge uses.

Additional staff will be required to implement this alternative, including: biologist, biological technician, two engineering equipment operators, park ranger (environmental education), volunteer coordinator, GIS specialist, forestry technician, and law enforcement officer (to be shared with Laguna Cartagena National Wildlife Refuge).

Authority

This notice is published under the authority of the National Wildlife Refuge System Improvement Act of 1997, Public Law 105-57.

Dated: August 23, 2011.
Mark J. Musaus,
Acting Regional Director.

Editorial Note: This document was received at the Office of the Federal Register on August 20, 2012.

[FR Doc. 2012-20724 Filed 8-22-12; 8:45 am]

BILLING CODE 4310-55-P